DEPARTMENT OF HEALTH AND HUMAN SERVICES

Centers for Disease Control and Prevention

Notice of Annual Meeting

The Vessel Sanitation Program, National Center for Environmental Health, Centers for Disease Control and Prevention (CDC), announces the following meeting:

Name: Vessel Sanitation Program: Current Program Status and Experience to Date with Program Operations.

Time and Date: 9 a.m. to 4 p.m., April 15, 2008.

Location: Auditorium, Port Everglades Administration Building, 1850 Eller Drive, Ft. Lauderdale, Florida 33316.

Status: Open to the public, but limited by the space available. The meeting room accommodates approximately 100 people.

Meeting Objectives: CDC staff, cruise ship industry representatives, private sanitation consultants, and other interested parties will meet to discuss the current status, and experience to date, of the Vessel Sanitation Program. Topics to be discussed include, but are not limited to:

• 2007 Program Review;

• Proposed revisions to the Vessel Sanitation Program Operations Manual 2005;

• Proposed revisions to the Vessel Sanitation Program Construction Guidelines 2005;

• Updates on cruise ship outbreaks; and

• Inspections for WHO Ship Sanitation Certificates.

The official record of this meeting will remain open for 15 days (through April 30, 2008) so that additional materials or comments may be submitted and made part of the record.

Advanced registration is encouraged. To do so, please provide your name, title, company name, mailing address, telephone number, facsimile number, and e-mail address to Stephanie Lawrence at telephone: (770) 488-3141, fax: (770) 488-4127, or e-mail: slawrence@cdc.gov. You may also contact her if you need any additional information.

Dated: March 7, 2008.
James D. Seligman,
Chief Information Officer, Centers for Disease Control and Prevention.

[FR Doc. E8-5137 Filed 3-13-08; 8:45 am]

BILLING CODE 4163-18-P